DEPARTMENT OF EDUCATION

Credit Enhancement for Charter School Facilities Program

AGENCY: Office of Innovation and Improvement, Department of Education.

ACTION: Notice.

Catalog of Federal Domestic Assistance Number: 84.354A.

SUMMARY: The Secretary intends to use the existing slate of applicants developed for the Credit Enhancement for Charter School Facilities Program in Fiscal Year (FY) 2014 to make new grant awards in FY 2016. The Secretary takes this action because a number of high-quality applications remain on the grant slate and available funding for the program in FY 2016 can support only a limited number of new awards.

FOR FURTHER INFORMATION CONTACT: Clifton Jones, U.S. Department of Education, 400 Maryland Ave. SW., Room 4W244, Washington, DC 20202. Telephone: 202-205-2205 or by email: clifton.jones@ed.gov.

If you use a telecommunications device for the deaf (TDD) or a text telephone (TTY), you may call the Federal Relay Service (FRS), toll free, at 1-800-877-8339.

SUPPLEMENTARY INFORMATION:

Background: On January 15, 2014, we published in the Federal Register (79 FR 2640) a notice inviting applications (NIA) for new awards for FY 2014 under the Credit Enhancement for Charter School Facilities Program. In this NIA, we indicated that, contingent upon the availability of funds and the quality of applications, we may make additional awards later in FY 2014 and FY 2015 from the list of unfunded applicants from the FY 2014 competition.

We received a number of applications for grants under the Credit Enhancement for Charter School Facilities Program in FY 2014, many of which received very high scores. We made two initial awards in FY 2014 and two additional awards in FY 2015. Because we received a large number of high-quality applications and had limited funds available for awards, many high scoring applications did not receive funding in FY 2014 or FY 2015.

Based on historical data, we believe that the funding available for this program in FY 2016 ¹ could support approximately two new awards. We do not believe that conducting a new competition in FY 2016, for so few awards, is warranted; and therefore, we intend to select FY 2016 grantees from the unfunded high-quality applications in the existing slate of applicants.

¹ The Consolidated Appropriations Act, 2016 requires the Secretary to use not less than $16 million of the funds available for part B of title V of the Elementary and Secondary Education Act for the Credit Enhancement for Charter School Facilities Program (subpart 2 of part B). We intend to use $16 million of such funds for awards under the program in FY16, consistent with the appropriations act requirement.

Program Authority: 20 U.S.C. 223-7223j.

Accessible Format: Individuals with disabilities can obtain this document in an accessible format (e.g., braille, large print, audiotape, or compact disc) on request to the contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: December 29, 2015.
Nadya Chinoy Dabby,
Assistant Deputy Secretary for Innovation and Improvement.

[FR Doc. 2015-33091 Filed 12-31-15; 8:45 am]

BILLING CODE 4000-01-P